ENVIRONMENTAL PROTECTION AGENCY

40 CFR Part 52

[Region 2 Docket No. 233, FRL-7084-3]

Approval and Promulgation of Implementation Plans; New York Ozone State Implementation Plan Revision; Delay of Effective Date and Extension of Comment Period

AGENCY: Environmental Protection Agency (EPA).

ACTION: Delay of effective date and extension of comment period.

SUMMARY: Due to the tragic events of September 11, 2001 and the resulting temporary closure of the Region 2 office of the Environmental Protection Agency (EPA) in New York City and the disruption of mail delivery and telephone service, the EPA is extending the comment period of a revision to the New York State Implementation Plan and delaying the effective date.

DATES: The effective date of the direct final rule published on September 25, 2001 at 66 FR 48957 is delayed until December 17, 2001 unless adverse comments are received by November 15, 2001. If EPA receives such comment, EPA will publish a timely withdrawal in the Federal Register informing the public that this rule will not take effect.

ADDRESSES: All comments should be addressed to: Raymond Werner, Chief, Air Programs Branch, Environmental Protection Agency, Region 2 Office, 290 Broadway, New York, New York 10007-1866.

Copies of the State submittals are available for inspection at the Region 2 office in New York City. Those interested in inspecting these submittals must arrange an appointment in advance by calling (212) 637-4249. Alternatively, appointments may be arranged via e-mail by sending a message to Paul Truchan at truchan.paul@epa.gov or Kirk Wieber at wieber.kirk@epa.gov. The office address is 290 Broadway, Air Programs Branch, 25th Floor, New York, New York 10007-1866.

Copies of the state submittals are also available for inspection at the state office: New York State Department of Environmental Conservation, Division of Air Resources, 625 Broadway, 2nd floor, Albany, New York 12233.

FOR FURTHER INFORMATION CONTACT: Kirk Wieber, Air Programs Branch, Environmental Protection Agency, 290 Broadway, 25th Floor, New York, New York 10007-1866, telephone, (212) 637-4249.

Dated: October 9, 2001.
William J. Muszynski,
Acting Regional Administrator, Region 2.

[FR Doc. 01-25960 Filed 10-15-01; 8:45 am]

BILLING CODE 6560-50-P